OFFICE OF THE UNITED STATES TRADE REPRESENTATIVE

Generalized System of Preferences (GSP): Results of the GSP Limited Product Review, Including Actions Related to Competitive Need Limitations (CNLs)

AGENCY: Office of the United States Trade Representative.

ACTION: Notice.

SUMMARY: This notice announces the results of the GSP Limited Product Review launched in July 2015, including: (1) The designation of certain cotton products as eligible for GSP benefits when imported from least-developed beneficiary developing countries (LDBDCs), and (2) the results of the review of CNL-related issues arising from 2014 import data, including CNL waivers, CNL waiver revocations, requests for redesignation of certain products, and de minimis CNL waivers.

FOR FURTHER INFORMATION CONTACT: Aimee Larsen, Director for GSP, Office of the United States Trade Representative. The telephone number is (202) 395-2974, the fax number is (202) 395-9674, and the email address is ALarsen@ustr.eop.gov.

SUPPLEMENTARY INFORMATION: The GSP program provides for the duty-free treatment of designated articles when imported from beneficiary developing countries. The GSP program is authorized by Title V of the Trade Act of 1974 (19 U.S.C. 2461 et seq.), as amended, and is implemented in accordance with Executive Order 11888 of November 24, 1975, as modified by subsequent Executive Orders and Presidential Proclamations.

The GSP program expired on July 31, 2013. GSP was reauthorized on June 29, 2015, by the Trade Preferences Extension Act of 2015. The GSP program is now effective through December 31, 2017, with retroactive effect through July 31, 2013. Pursuant to the Trade Preferences Extension Act of 2015, exclusions from GSP duty-free treatment where CNLs have been exceeded for calendar year 2014 will be effective October 1, 2015, unless granted a waiver by the President.

Results of the GSP Limited Product Review

Pursuant to Section 203 of the Trade Preferences Extension Act of 2015, the Trade Policy Staff Committee (TPSC) conducted a limited GSP review encompassing products that, based on full-year 2014 import data, are subject to CNL-related actions, including exclusions, waivers, and revocation of waivers, as well as redesignations. As part of this review, the TPSC considered: (1) Petitions to waive CNLs for two products from Thailand; (2) revocation of CNL waivers for three products from beneficiary countries where 2014 imports exceeded certain statutory limits; (3) requests for redesignation of products previously excluded from GSP eligibility for certain beneficiary countries; and (4) products eligible for de minimis waivers of CNLs. As part of this review, the TPSC also considered the possible designation of certain cotton products for eligibility for GSP benefits when imported from LDBDCs under the GSP program.

In a Presidential Proclamation dated September 30, 2015, the President implemented his decisions regarding GSP product eligibility issues arising out of this GSP product review, including CNL waivers and CNL revocations. This notice provides further information on the results of the GSP Limited Product Review. These results, comprising five lists, are available for the public to view at http://www.regulations.gov in docket USTR-2015-0007, under “Supporting and Related Materials” and at https://ustr.gov/issue-areas/preference-programs/generalized-system-preferences-gsp/current-reviews/gsp-20142015.

Specific Results

The President designated five upland cotton fiber products as eligible for duty-free treatment under GSP when imported from LDBDCs. See List I (Products Added to the List of Eligible Products for GSP for Least Developed Beneficiary Developing Countries). This designation is pursuant to the authority granted to the President in Section 202 of the Trade Preferences Extension Act of 2015 and consistent with USTR's December 2011 announcement of trade initiatives intended to enable least-developed countries to benefit more fully from global trade.

The President granted petitions for waivers of CNLs for two products from Thailand: (1) Coconuts otherwise prepared or preserved (HTS 2008.19.15) and (2) copper alloys (other than brass, cupro-nickel or nickel-silver), wire, coated or plated with metal (HTS 7408.29.10). See List II (Decision on Petitions to Grant Waiver of the Competitive Need Limitation). Additionally, the President revoked existing CNL waivers for three products: (1) Certain plywood sheets (HTS 4412.31.40) from Indonesia; (2) certain copper, stranded wire (HTS 7413.00.10) from Turkey; and (3) certain copper cables and plaited bands (HTS 7413.00.50) from Turkey. See List III (Revocations of Competitive Need Limitation Waivers).

The President also redesignated certain articles from GSP-eligible countries that had previously exceeded the CNLs, but had fallen below the CNL for total annual trade in 2014. The President redesignated as GSP-eligible: (1) Oilcake and other solid residues, resulting from the extraction of vegetable fats or oils, of sunflower seeds (HTS 2306.30.00) from Ukraine; (2) rare gases, other than argon (HTS 2804.29.00) from Ukraine; (3) insulated ignition wiring sets and other wiring sets of a kind used in vehicles, aircraft or ships (HTS 8544.30.00) from Indonesia; and (4) parts of railway/tramway locomotives/rolling stock, axles (HTS 8607.19.03) from Ukraine. See List IV (Products Receiving GSP Redesignation).

The President granted de minimis waivers to 98 articles that exceeded the 50-percent import-share CNL, but for which the aggregate value of all U.S. imports of that article was below the 2014 de minimis level of $22 million. See List V (Products Receiving De Minimis Waivers). The articles for which de minimis waivers were granted will continue to be eligible for duty-free treatment under GSP when imported from the associated countries.

William D. Jackson,
Deputy Assistant U.S. Trade Representative for the Generalized System of Preferences and Chair of the GSP Subcommittee of the Trade Policy Staff Committee Office of the U.S. Trade Representative.

[FR Doc. 2015-25548 Filed 10-6-15; 8:45 am]

BILLING CODE 3290-F6-P